DEPARTMENT OF TRANSPORTATION

Federal Transit Administration

[FTA Docket No. FTA 2022-0016]

Agency Information Collection Activity Under OMB Review: Public Transportation Safety Certification Training Program (PTSCP)

AGENCY: Federal Transit Administration, Department of Transportation (DOT).

ACTION: Notice of request for comments.

SUMMARY: In compliance with the Paperwork Reduction Act of 1995, this notice announces that the Information Collection Requirements (ICRs) abstracted below have been forwarded to the Office of Management and Budget (OMB) for review and comment. The ICRs describe the nature of the information collection and their expected burdens.

DATES: Comments must be submitted on or before July 25, 2022.

ADDRESSES: Written comments and recommendations for the proposed information collection should be sent within 30 days of publication of this notice to www.reginfo.gov/public/do/PRAMain. Find this particular information collection by selecting “Currently under 30-day Review—Open for Public Comments” or by using the search function.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue SE, Mail Stop TAD-10, Washington, DC 20590, (202) 366-0354 or tia.swain@dot.gov.

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On March 1, 2022 FTA published a 60-day notice (87 FR 11507) in the Federal Register soliciting comments on the ICR that the agency was seeking OMB approval. FTA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The requirements are being submitted for clearance by OMB as required by the PRA.

Title: Public Transportation Safety Certification Training Program (PTSCTP).

OMB Control Number: 2132-0578.

Type of Request: FTA's Public Transportation Safety Certification Training Program (PTSCTP) is authorized pursuant to 49 U.S.C. 5329(c)(1), which requires the Secretary of Transportation to establish a public transportation safety certification training program for Federal and State employees, or other designated personnel, who conduct safety audits and examinations of public transportation systems, and employees of public transportation agencies directly responsible for safety oversight. The program implements a uniform safety certification training curriculum and requirements to enhance the technical proficiency of individuals who conduct safety audits and examinations of public transportation systems operated by public transportation agencies and those who are directly responsible for safety oversight of public transportation agencies. To comply with 49 U.S.C. 5329(c)(1), these designated personnel are required to register for the PTSCTP and request an Individual Training Plan (ITP). The PTSCTP has three different ITP tracks. The different ITP tracks: (1) State Safety Oversight (SSO)—State Safety Oversight Agency (SSOA) personnel and contractors who conduct safety audits and examinations of rail transit systems; (2) Rail Transit Agency (RTA)—Rail transit agency personnel and contractors who are directly responsible for safety oversight; and (3) Bus—Bus transit agency personnel and contractors who are directly responsible for safety oversight. FTA then issues an ITP which specifies a curriculum the registrant must complete. PTSCTP participants enroll in courses specific to their curriculum. The information collected as part of this program is to ensure that SSOA and RTA recipients are complying with the prescribed training requirements by ensuring their designated personnel are receiving training that assists with enhancing technical and professional proficiency in performing safety oversight functions. FTA will use the information collected to monitor implementation and effectiveness of the PTSCTP. Certain information collected may be disseminated to recipients or FTA program managers to encourage and ensure participation by designated personnel is achieved within the prescribed 3-year certification period and maintained through refresher training. Recipients are required to self-certify compliance with 49 CFR part 672 annually. This request for renewal of an existing information collection does not reflect any changes as a result of the Bipartisan Infrastructure Law. In the event that FTA updates PTSCTP requirements, FTA will seek comment from stakeholders through the publication of a separate Federal Register Notice outside of the Paperwork Reduction Act process.

Respondents: State Safety Oversight Agencies and Rail Transit Agencies.

Estimated Annual Number of Respondents: 91 respondents (31 SSOAs that conduct audits and examinations of public transportation systems and 60 public RTAs with designated personnel who are directly responsible for safety oversight of their systems).

Estimated Annual Number of Responses: 1,020 responses.

Estimated Total Annual Burden: 5,118 hours.

Frequency: Annually.

Nadine Pembleton,
Deputy Associate Administrator, Office of Administration.

[FR Doc. 2022-13414 Filed 6-22-22; 8:45 am]

BILLING CODE 4910-57-P